DEPARTMENT OF LABOR

Employment and Training Administration

[TA-W-42,356]

Hynix Semiconductor America, Inc., San Jose, CA; Notice of Termination of Investigation

Pursuant to section 221 of the Trade Act of 1974, an investigation was initiated on November 1, 2002 in response to petition filed by the company on behalf of workers at Hynix Semiconductor America, Inc., San Jose, California.

The petition regarding the investigation has been deemed invalid. Consequently, the investigation has been terminated.

Signed in Washington, DC, this 15th day of November, 2002.
Linda G. Poole,
Certifying Officer, Division of Trade Adjustment Assistance.

[FR Doc. 02-30074 Filed 11-26-02; 8:45 am]

BILLING CODE 4510-30-P